NUCLEAR REGULATORY COMMISSION

[Docket No. 50-382; NRC-2016-0239]

Entergy Operations, Inc.; Waterford Steam Electric Station, Unit 3

AGENCY: Nuclear Regulatory Commission.

ACTION: License amendment application; withdrawal by applicant.

SUMMARY: The U.S. Nuclear Regulatory Commission (NRC) has granted the request of Entergy Operations, Inc. (Entergy, the licensee), to withdraw its application dated September 1, 2016, for a proposed amendment to Facility Operating License No. NPF-38. The proposed amendment would have revised the Waterford Steam Electric Station, Unit 3 (Waterford 3) Technical Specifications (TSs) to relocate the surveillance frequency requirements for selected Engineered Safety Features Actuation System (ESFAS) Subgroup relays to a licensee-controlled program. Specifically, the license amendment would have revised the Table Notation for TS Table 4.3-2, “Engineered Safety Features Actuation System Instrumentation Surveillance Requirements,” to relocate the surveillance frequency of additional relays to the Waterford 3 Surveillance Frequency Control Program (SFCP).

ADDRESSES: Please refer to Docket ID NRC-2016-0239 when contacting the NRC about the availability of information regarding this document. You may obtain publicly-available information related to this document using any of the following methods:

• Federal Rulemaking Web site: Go to http://www.regulations.gov and search for Docket ID NRC-2016-0239. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: April Pulvirenti, Office of Nuclear Reactor Regulation, U.S. Nuclear Regulatory Commission, Washington, DC 20555-0001; telephone: 301-415-1390, email: April.Pulvirenti@nrc.gov.

SUPPLEMENTARY INFORMATION: The NRC has granted the request of Entergy to withdraw its September 1, 2016, application (ADAMS accession no. ML16245A359) for a proposed amendment to Facility Operating License No. NPF-38 for Waterford 3, located in St. Charles Parish, Louisiana.

The amendment would have revised the Waterford 3 TSs to relocate the surveillance frequency requirements for selected ESFAS Subgroup relays to a licensee-controlled program. Specifically, the license amendment would have revised the Table Notation for TS Table 4.3-2, “Engineered Safety Features Actuation System Instrumentation Surveillance Requirements,” to relocate the surveillance frequency of additional relays to the Waterford 3 SFCP. The Commission previously published a proposed finding in the Federal Register on November 22, 2016 (81 FR 83875), that the amendment involves no significant hazards consideration. In addition, the licensee has supplemented the application with a response to a Request for Additional Information dated January 26, 2017 (ADAMS accession no. ML17039A909), and a second supplement dated February 27, 2017 (ADAMS accession no. ML17058A460). By letter dated March 22, 2017 (ADAMS accession no. ML17082A459), the licensee requested to withdraw the proposed amendment.

Dated at Rockville, Maryland, this 25th day of April, 2017.
For the Nuclear Regulatory Commission.
April L Pulvirenti,
Project Manager, Plant Licensing Branch 4, Division of Operator Reactor Licensing, Office of Nuclear Reactor Regulation.

[FR Doc. 2017-09154 Filed 5-4-17; 8:45 am]

BILLING CODE 7590-01-P